DEPARTMENT OF ENERGY

Federal Energy Regulatory Commission

Notice of New Docket Prefix “AD”

August 30, 2001.

Notice is hereby given that a new docket prefix “AD” has been established to identify Administrative items which may be listed on the Commission meeting schedule.

The prefix will be ADFY-NNN-000, where “FY” stands for the fiscal year in which the item is being scheduled, and “NNN” is a sequential number.

David P. Boergers,
Secretary.

[FR Doc. 01-22338 Filed 9-5-01; 8:45 am]

BILLING CODE 6717-01-P